DEPARTMENT OF ENERGY

DOE Response to Recommendation 2011-1 of the Defense Nuclear Facilities Safety Board, Safety Culture at the Waste Treatment and Immobilization Plant

AGENCY: Department of Energy.

ACTION: Notice.

SUMMARY: On June 09, 2011, the Defense Nuclear Facilities Safety Board affirmed their Recommendation 2011-1, concerning Safety Culture at the Waste Treatment and Immobilization Plant, to the Department of Energy. In accordance with section 315(b) of the Atomic Energy Act of 1954, as amended, 42 U.S.C. 2286d(b), The following represents the Secretary of Energy's response to the recommendation.

ADDRESSES: Send comments, data, views, or arguments concerning the Secretary's response to: Defense Nuclear Facilities Safety Board, 625 Indiana Avenue, NW., Suite 700, Washington, DC 20004.

FOR FURTHER INFORMATION CONTACT: Mr. Nick Suttora, Team Lead, Departmental Representative to the Defense Nuclear Facilities Safety Board, Office of Health, Safety and Security, U.S. Department of Energy, 1000 Independence Avenue, SW., Washington, DC 20585.

Issued in Washington, DC, on July 6, 2011.
Mari-Josette Campagnone,
Departmental Representative to the Defense Nuclear Facilities Safety Board, Office of Health, Safety and Security.

June 30, 2011.

The Honorable Peter S. Winokur,

Chairman,

Defense Nuclear Facilities Safety Board,

625 Indiana Avenue, NW, Suite 700,

Washington, DC 20004-2901.

Dear Mr. Chairman:

The Department of Energy (DOE) acknowledges receipt of Defense Nuclear Facilities Safety Board (Board) Recommendation 2011-1, Safety Culture at the Waste Treatment and Immobilization Plant, issued on June 9, 2011. DOE views nuclear safety and assuring a robust safety culture as essential to the success of the Waste Treatment and Immobilization Plant (WTP) and all of our projects across the DOE complex.

As the Board notes in the introduction to this Recommendation, DOE committed itself to establishing and maintaining a strong nuclear safety culture almost 20 years ago through Secretary of Energy Notice SEN-35-91, Nuclear Safety Policy. This commitment was reiterated and confirmed in February 2011, in DOE Policy 420.1, Department of Energy Nuclear Safety Policy. We agree with the Board's position that establishment of a strict safety culture must be a fundamental principle throughout the DOE complex, and we are in unqualified agreement with the Board that the WTP mission is essential to protect the health and safety of the public, our workers, and the environment from radioactive wastes in aging storage tanks at Hanford.

It is DOE policy and practice to design, construct, operate, and decommission its nuclear facilities in a manner that ensures adequate protection of workers, the public, and the environment. DOE line management is both responsible and accountable for assuring that such adequate protection is at the core of how we conduct business at our nuclear facilities. We hold our contractors to the same standard. A strong nuclear safety and quality culture is the foundation of our work.

Over the past year, the Department has undertaken a broad range of steps to assure a strong and questioning safety culture at WTP and sites across the DOE complex. We will only be successful if we remain committed to continuous improvement and teamwork. DOE takes all safety concerns—whether from our employees, our contractors, the Board, or third-parties—very seriously. This input is an integral part of the Department's efforts to constantly strengthen nuclear safety at our facilities.

Even though the Department cannot accept the allegations without the opportunity to evaluate the Board's full investigative record, in the spirit of continual improvement DOE accepts the Board's recommendations to assert federal control to direct, track, and validate corrective actions to strengthen the safety culture at WTP; conduct an extent of condition review to assess safety culture issues beyond the WTP project; and support the ongoing Department of Labor (DOL) review of Dr. Tamosaitis' case.

Reinforcing and maintaining a strong safety culture at WTP and all DOE sites will require a wide range of approaches, including engagement by senior DOE officials, employee input and participation, self assessments, independent oversight by the Office of Health, Safety and Security (HSS), recommendations from the Board, and an open and transparent process to identify and implement technical issues and corrective actions.

We agree with the Board that “federal and contract managers must make a special effort to foster a free and open atmosphere in which all competent opinions are judged on their technical merit, to sustain or improve worker and public safety first and foremost, and then [to] evaluate potential impacts of cost and schedule.” These expectations are clearly articulated in DOE Policy 442.1, Differing Professional Opinion; DOE Manual 442.1-1, Differing Professional Opinions Manual for Technical Issues Involving Environment, Safety, and Health, and DOE Order 442.1A, Department of Energy Employee Concerns Program.

To assure that these issues were being appropriately addressed following Dr. Tamosaitis' initial allegations, the Assistant Secretary for Environmental Management (EM) requested that HSS conduct a comprehensive analysis of the safety culture at WTP.

In October 2010, HSS completed its investigation, which included interviews with more than 250 employees. While HSS found that the fundamentals of a robust safety culture were present at WTP, the report identified the need for improvement in key areas, including, among others: more clearly defining federal roles and responsibilities; identifying mechanisms to strengthen trust among the workforce and better communicate information to employees; and putting in place processes to ensure nuclear safety programs remain robust and effective during project changes.

The corrective actions that address the recommendations from the HSS report will be fully implemented by September 30, 2011. HSS will then conduct a follow-on visit to assure that these steps were executed effectively across the project, as well as to perform additional analysis to determine if cost and schedule pressures are challenging the implementation of a robust nuclear safety culture.

DOE and Bechtel National, Incorporated (BNI)—the prime contractor on the WTP project—have been engaged in a variety of initiatives to strengthen the nuclear safety culture at WTP for over a year. Steps that have already occurred include completing a revision to the WTP Project Execution Plan, currently under review, to more clearly delineate federal roles and organizational responsibilities at WTP and the Office of River Protection (ORP), and conducting a number of employee forums to ensure that employees clearly understand the changes in those roles and responsibilities.

Also in response to the HSS recommendations, BNI commissioned a confidential survey of more than 300 WTP employees to assess if a Nuclear Safety Quality Culture (NSQC) gap existed at the site and to identify additional areas for improvement. As a result, the contractor assigned a retired Navy Admiral and former nuclear utility executive experienced in application of Institute of Nuclear Power Operations (INPO) methods as the Manager of NSQC Implementation for the project. To date, approximately 1,600 people at the site, including all senior managers, have received training focused on making the workforce comfortable with raising issues and systematically moving issues through to resolution. In addition, over the last 13 months, BNI has conducted three all-hands meetings with DOE project team participation to emphasize the importance of a robust nuclear safety culture.

Even while some initiatives are already underway, we recognize the need to continue improving nuclear safety at WTP and across the complex. To that end, DOE has developed a comprehensive action plan to address the Board's specific recommendations to strengthen the safety culture at WTP. Initial steps are discussed below:

• The Deputy Secretary and I will continue to be personally engaged in asserting federal control to ensure the specific corrective actions to strengthen safety culture within the WTP project in both contractor and federal workforces—consistent with DOE Policy 420.1—are tracked and validated. Federal control within the WTP project has been and will continue to be asserted and regularly reinforced through our direct involvement.

• This will include a series of “town-hall” style meetings hosted by senior DOE officials to highlight for workers the importance of maintaining a strong nuclear safety culture at each of our sites and to solicit their input. These forums across the DOE complex will also help improve the direct communication of safety issues between senior managers and employees.

• To address the concern regarding extent of condition, HSS will independently review the safety culture across the entire complex. This review will provide insights into the health of safety culture within Headquarters organizations, different program offices, and different field sites.

• In addition, DOE and BNI are arranging Safety Conscious Work Environment (SCWE) training for BNI and ORP managers and supervisors with a firm that conducts SCWE training for the Institute of Nuclear Power Operations Senior Nuclear Plant Manager's course.

• We will also be joining with BNI to sponsor an independent, executive-level assessment of the project's nuclear safety culture by a group of nuclear industry subject matter experts, who have experience in INPO evaluations and/or Nuclear Regulatory Commission (NRC) inspections.

• At both a site and corporate level, we are also taking steps to enhance reporting mechanisms for safety-related concerns. At the Hanford site, we have combined the Employee Concerns Programs for ORP and the Richland Operations Office to leverage existing resources to both strengthen this important program and increase its visibility at the site.

• Within EM Headquarters, we have established ombudsmen to act as advocates for employees and their concerns. We have made it easier for employees to use a variety of avenues to raise concerns, including: the line management for each project, site employee concerns programs, union representatives, EM's Office of Safety and Security Programs, HSS, and DOE's Chief of Nuclear Safety. Each office now offers employees access to both a hotline number and general email inbox, so that workers will have the opportunity to ask questions or voice concerns either directly or anonymously.

• We will also require that both EM Headquarters and field sites assess nuclear safety culture and the implementation of a safety conscious work environment in their annual submittals for Integrated Safety Management System (ISMS) declarations. The specific criteria will build on the existing requirements for the ISMS declarations and will be expanded to include safety culture principles not only from DOE, but also from INPO and NRC.

• Regarding your final recommendation, when the Department became aware of Dr. Tamosaitis' petition to the Board, the Assistant Secretary for Environmental Management immediately requested the Department's Inspector General to perform an investigation into the alleged retaliation issues raised by Dr. Tamosaitis. The Office of the Inspector General decided not to examine the merits of the allegations since they were already the focus of an ongoing investigation by DOL, which has jurisdiction and expertise to review whistle blower claims. The Department will fully cooperate with the DOL as requested in its investigation.

Even while DOE fully embraces the objectives of the Board's specific recommendations, it is important to note that DOE does not agree with all of the findings included in the Board's report.

Specifically, the conclusions drawn by the Board about the overall quality of the safety culture at WTP differ significantly from the HSS findings and are not consistent with the safety culture data and field performance experience at WTP. We are concerned that your letter includes the October 2010 HSS review in the list of “other examples of a failed safety culture.” The Department disagrees with this categorization and believes the HSS report provided an accurate representation of the nuclear safety culture—and existing gaps—at the WTP.

As discussed above, the HSS review found areas in need of immediate improvement; however, most WTP personnel did not express a loss of confidence in management support, a sense of a chilled environment, or a fear of retaliation.

Additionally, in its report, the Board alleges that DOE and contractor management suppressed technical dissent on the project. The Department rightly takes any such claim very seriously. Based on an investigation by the DOE Office of the General Counsel, however, we do not necessarily agree with some of the specific details the Board provided. For example, our investigation found no evidence that DOE or its contractors were aware of and sought to suppress a technical report.

Moreover, the Board's findings appear to rely on a number of accounts describing the actions and behaviors of both contractor and DOE personnel that we believe may have been misunderstood by the Board. The Department feels compelled to address these for the public record and in fairness to its personnel.

To do so effectively, on June 22, 2011, DOE requested the Board's full investigative record, including transcripts, interview notes, and exhibits. Per your conversation with Deputy Secretary Daniel Poneman today, we look forward to continuing to engage with you to obtain additional details from the Board's investigation. The Board's investigative record or other supporting information will allow us to provide further details on specific discrepancies between our findings and the Board's and will be of great use in defining the structure and scope of follow-on safety culture improvement initiatives and actions.

We look forward to working with the Board and its staff as we continue to strive towards excellence. It is important for the both the Department and the Board to function collaboratively and openly as we work to further improve the safety culture at DOE. To facilitate that objective and in recognition of the significance of these concerns, I recommend we jointly charter a third-party review, such as the National Academy of Science, to evaluate how we can strengthen our relationship and most effectively work together to achieve our shared objective of helping DOE to safely perform its mission.

As additional information becomes available from our actions addressing this Recommendation, we will make it available to you. We hope to continue a meaningful, regular, and open dialogue on this and all safety matters.

I am designating Mr. Daniel Poneman, the Deputy Secretary of Energy, as the Responsible Manager for this recommendation. He will be charged with reporting to me regularly on the specific additional steps we are taking to improve the safety culture at WTP and all of our facilities.

Sincerely,

Steven Chu.

cc:

D. Poneman, S-2

M. Campagnone, HS-1.1

[FR Doc. 2011-18084 Filed 7-18-11; 8:45 am]

BILLING CODE 6450-01-P